FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 18, 2016.

A. Federal Reserve Bank of Atlanta (Chapelle Davis, Assistant Vice President) 1000 Peachtree Street NE., Atlanta, Georgia 30309. Comments can also be sent electronically to Applications.Comments@atl.frb.org:

1. Fanny Dascal, Miami Beach, Florida, as Trustee, Cesar R. Camacho, Miami, Florida, individually and as Trustee, of The Fanny Dascal Grantor Retained Annuity Trust, Miami, Florida, Jacqueline Dascal Chariff, Miami Beach, Florida, and Ana Marie Camacho, Miami, Florida; to acquire voting shares of Continental Bancorp, and directly acquire voting shares of Continental National Bank, both in Miami, Florida.

B. Federal Reserve Bank of Kansas City (Dennis Denney, Assistant Vice President) 1 Memorial Drive, Kansas City, Missouri 64198-0001:

1. Todd Allen Cook, Laverne, Oklahoma; to acquire voting shares of Laverne Bancshares, Inc., and thereby indirectly acquire voting shares of Bank of Laverne, both in Laverne, Oklahoma.

In connection with this application, Sheldon Olis Cook, McAlester, Oklahoma, as a member of the Cook Family Group, and acting individually, has applied to retain voting shares of Laverne Bancshares, Inc., and thereby indirectly retain voting shares of Bank of Laverne, both in Laverne, Oklahoma.

Board of Governors of the Federal Reserve System, April 28, 2016.
Michael J. Lewandowski,
Associate Secretary of the Board.

[FR Doc. 2016-10332 Filed 5-2-16; 8:45 am]

BILLING CODE 6210-01-P